DEPARTMENT OF COMMERCE

International Trade Administration

Initiation of Antidumping and Countervailing Duty Administrative Reviews

AGENCY: Enforcement and Compliance, International Trade Administration, Department of Commerce.

SUMMARY: The U.S. Department of Commerce (Commerce) has received requests to conduct administrative reviews of various antidumping duty (AD) and countervailing duty (CVD) orders with November anniversary dates. In accordance with Commerce's regulations, we are initiating those administrative reviews.

DATES: Applicable January 27, 2026.

FOR FURTHER INFORMATION CONTACT: Brenda E. Brown, AD/CVD Operations, Customs Liaison Unit, Enforcement and Compliance, International Trade Administration, U.S. Department of Commerce, 1401 Constitution Avenue NW, Washington, DC 20230; telephone: (202) 482-4735.

SUPPLEMENTARY INFORMATION:

Background

Commerce has received timely requests, in accordance with 19 CFR 351.213(b), for administrative reviews of various AD and CVD orders with November anniversary dates. All deadlines for the submission of various types of information, certifications, comments, or actions by Commerce discussed below refer to the number of calendar days from the applicable starting time.

Respondent Selection

In the event that Commerce limits the number of respondents for individual examination for administrative reviews initiated pursuant to requests made for the orders identified below, Commerce intends to select respondents based either on U.S. Customs and Border Protection (CBP) data for U.S. imports during the period of review (POR) or questionnaires in which we request the quantity and value (Q&V) of sales, shipments, or exports during the POR. Where Commerce selects respondents based on CBP data, we intend to place the CBP data on the record within five days of publication of the initiation notice. Where Commerce selects respondents based on Q&V data, Commerce intends to place the Q&V questionnaire on the record of the review within five days of publication of the initiation notice. In either case, we intend to make our respondent selection decision within 35 days of the Federal Register publication of the initiation notice. Comments regarding the CBP data (and/or Q&V data (where applicable)) and respondent selection should be submitted within seven days after the placement of the CBP data/submission of the Q&V data on the record of the review. Parties wishing to submit rebuttal comments should submit those comments within five days after the deadline for the initial comments.

In the event that Commerce decides it is necessary to limit individual examination of respondents and conduct respondent selection under section 777A(c)(2) of the Tariff Act of 1930, as amended (the Act), the following guidelines regarding collapsing of companies for purposes of respondent selection will apply. In general, Commerce has found that determinations concerning whether particular companies should be “collapsed” (e.g., treated as a single entity for purposes of calculating AD rates) require a substantial amount of detailed information and analysis, which often require follow-up questions and analysis. Accordingly, Commerce will not conduct collapsing analyses at the respondent selection phase of the review and will not collapse companies at the respondent selection phase unless there has been a determination to collapse certain companies in a previous segment of the AD proceeding (e.g., investigation, administrative review, new shipper review, or changed circumstances review). For any company subject to the review, if Commerce determined, or continued to treat, that company as collapsed with others, Commerce will assume that such companies continue to operate in the same manner and will collapse them for respondent selection purposes. Otherwise, Commerce will not collapse companies for purposes of respondent selection.

Parties are requested to: (a) identify which companies subject to review previously were collapsed, and (b) provide a citation to the proceeding in which they were collapsed. Further, if companies are requested to complete the Q&V questionnaire for purposes of respondent selection, in general, each company must report volume and value data separately for itself. Parties should not include data for any other party, even if they believe they should be treated as a single entity with that other party. If a company was collapsed with another company or companies in the most recently completed segment of the proceeding where Commerce considered collapsing that entity, complete Q&V data for that collapsed entity must be submitted.

Notice of No Sales

With respect to AD administrative reviews, we intend to rescind the review where there are no suspended entries for a company or entity under review and/or where there are no suspended entries under the company-specific case number for that company or entity. Where there may be suspended entries, if a producer or exporter named in this notice of initiation had no exports, sales, or entries during the POR, it may notify Commerce of this fact within 30 days of publication of this initiation notice in the Federal Register for Commerce to consider how to treat suspended entries under that producer's or exporter's company-specific case number.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Deadline for Particular Market Situation Allegation

Section 504 of the Trade Preferences Extension Act of 2015 amended the Act by adding the concept of a particular market situation (PMS) for purposes of constructed value under section 773(e) of the Act.¹ Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

¹ See Trade Preferences Extension Act of 2015, Public Law 114-27, 129 Stat. 362 (2015).

Neither section 773(e) of the Act nor 19 CFR 351.301(c)(2)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of initial responses to section D of the questionnaire.

Separate Rates

In proceedings involving non-market economy (NME) countries, Commerce begins with a rebuttable presumption that all companies within the country are subject to government control and, thus, should be assigned a single AD deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a Separate Rate Application or Certification, as described below. In addition, all firms that wish to qualify for separate rate status in the administrative reviews of AD orders in which a Q&V questionnaire is issued must complete, as appropriate, either a Separate Rate Application or Certification, and respond to the Q&V questionnaire.

For these administrative reviews, in order to demonstrate separate rate eligibility, Commerce requires entities for whom a review was requested, that were assigned a separate rate in the most recent segment of this proceeding in which they participated, to certify that they continue to meet the criteria for obtaining a separate rate. The Separate Rate Certification form will be available on Commerce's website at https://access.trade.gov/Resources/nme/nme-sep-rate.html on the date of publication of this Federal Register notice. In responding to the certification, please follow the “Instructions for Filing the Certification” in the Separate Rate Certification. Separate Rate Certifications are due to Commerce no later than 14 calendar days after publication of this Federal Register notice. In addition to filing a Separate Rate Certification with Commerce no later than 14 calendar days after publication of this Federal Register notice. The deadline and requirement for submitting a Separate Rate Certification applies equally to NME-owned firms, wholly foreign-owned firms, and foreign sellers who purchase and export subject merchandise to the United States.

Entities that currently do not have a separate rate from a completed segment of the proceeding ² should timely file a Separate Rate Application to demonstrate eligibility for a separate rate in this proceeding. In addition, companies that received a separate rate in a completed segment of the proceeding that have subsequently made changes, including, but not limited to, changes to corporate structure, acquisitions of new companies or facilities, or changes to their official company name,³ should timely file a Separate Rate Application to demonstrate eligibility for a separate rate in this proceeding. The Separate Rate Application will be available on Commerce's website at https://access.trade.gov/Resources/nme/nme-sep-rate.html on the date of publication of this Federal Register notice. In responding to the Separate Rate Application, refer to the instructions contained in the application. Separate Rate Applications are due to Commerce no later than 14 calendar days after publication of this Federal Register notice. The deadline and requirement for submitting a Separate Rate Application applies equally to NME-owned firms, wholly foreign-owned firms, and foreign sellers that purchase and export subject merchandise to the United States.

² Such entities include entities that have not participated in the proceeding, entities that were preliminarily granted a separate rate in any currently incomplete segment of the proceeding (e.g., an ongoing administrative review, new shipper review, etc.) and entities that lost their separate rate in the most recently completed segment of the proceeding in which they participated.

³ Only changes to the official company name, rather than trade names, need to be addressed via a Separate Rate Application. Information regarding new trade names may be submitted via a Separate Rate Certification.

Exporters and producers must file a timely Separate Rate Application or Certification if they want to be considered for individual examination. Furthermore, exporters and producers who submit a Separate Rate Application or Certification and subsequently are selected as mandatory respondents will no longer be eligible for separate rate status unless they respond to all parts of the questionnaire as mandatory respondents.

Certification Eligibility

Commerce may establish a certification process for companies whose exports to the United States could contain both subject and non-subject merchandise. Companies under review that were deemed to not be eligible to participate in the certification program of that proceeding may submit a Certification Eligibility Application to establish that they maintain the necessary systems to track their sales to the United States of subject and non-subject goods.

All firms listed below that are not currently eligible to certify but wish to establish certification eligibility are required to submit a Certification Eligibility Application. The Certification Eligibility Application will be available on Commerce's website at https://access.trade.gov/Resources/Certification-Eligibility-Application.pdf.

Certification Eligibility Applications must be filed according to Commerce's regulations and are due to Commerce no later than 30 calendar days after the publication of the Federal Register notice.

Exporters and producers that are not currently eligible to certify, who submit a Certification Eligibility Application, and are subsequently selected as mandatory respondents must respond to all parts of the questionnaire as mandatory respondents for Commerce to consider their Certification Eligibility Application.

Initiation of Reviews

In accordance with 19 CFR 351.221(c)(1)(i), we are initiating administrative reviews of the following AD and CVD orders and findings. We intend to issue the final results of these reviews not later than November 30, 2026.

| Period to be reviewed
AD Proceedings
ARGENTINA: Oil Country Tubular Goods, A-357-824 | 11/1/24-10/31/25
Siderca S.A.I.C.
Tenaris Global Services S.A.
Tubos de Acero de Mexico S.A.
AUSTRIA: Strontium Chromate, A-433-813 | 11/1/24-10/31/25
Habich GmbH
BRAZIL: Certain Aluminum Foil, A-351-856 11/1/24-10/31/25
Companhia Brasileira de Alumínio
CBA Itapissuma Ltda.
FRANCE: Strontium Chromate, A-427-830 | 11/1/24-10/31/25
Societe Nouvelle des Couleurs Zinciques
GERMANY: Thermal Paper, A-428-850 | 11/1/24-10/31/25
Convertidoras PCM, S.A. de C.V.
Formularios de México S.A. de C.V.
Koehler Oberkirch GmbH
Koehler Paper SE; Koehler Kehl GmbH
Papeles y Conversiones de Mexico, S.A. de C.V
INDIA: Paper File Folders, A-533-910 | 11/1/24-10/31/25
Navneet Education Limited
INDIA: Welded Stainless Pressure Pipe, A-533-867 | 11/1/24-10/31/25
Ratnamani Metals & Tubes Ltd.
Suncity Metals & Tubes Private Ltd
JAPAN: Aluminum Lithographic Printing Plates | 5/1/24-10/31/25
Fujifilm Corporation; Fujifilm Shizuoka Co., Ltd.
MEXICO: Certain Freight Rail Couplers and Parts Thereof, A-201-857 | 11/1/24-10/31/25
Amsted Rail Company, Inc.; ASF-K de Mexico S. de R.L. de C.V.
BNSF Railway
Canadian National Railway Company
CSX Transportation Corp.
Freightcar America, Inc.
GATX de Mexico
Greenbrier Central, LLC
Greenbrier Concarril, LLC
Greenbrier GIMSA, LLC
Greenbrier Leasing Company, LLC
Gunderson Concarril S.A. de C.V
Gunderson Rail Services LLC
Gunderson-GIMSA S.A. de C.V.
Modern Rail Capital
National Steel Car, Ltd.
Norfolk Southern Railway
Strato, Inc.
The Greenbrier Companies, Inc.
Trinity Rail Group LLC
TTX Company
Tubos Acero Mexico
Union Pacific Railroad
Wabtec Corporation
MEXICO: Oil Country Tubular Goods, A-201-856 | 11/1/24-10/31/25
Siderca S.A.I.C.
Tenaris Global Services S.A.
Tubos de Acero de Mexico S.A.
Vallourec Oil & Gas Mexico S.A. de C.V.
MEXICO: Seamless Refined Copper Pipe and Tube, A-201-838 | 11/1/24-10/31/25
GD Affiliates S. de R.L.de C.V.
IUSA, S.A. de C.V.
Nacional de Cobre, S.A. de C.V.
MEXICO: Steel Concrete Reinforcing Bar, A-201-844 | 11/1/24-10/31/25
Deacero S.A.P.I. de C.V.; I.N.G.E.T.E.K.N.O.S. Estructurales, S.A. de C.V.
Grupo Acerero S.A. de C.V.
Grupo Simec S.A.B. de C.V.; Aceros Especiales Simec Tlaxcala, S.A. de C.V.;
Compania Siderurgica del Pacifico S.A. de C.V.; Fundiciones de Acero Estructurales,
S.A. de C.V.; Grupo Chant, S.A.P.I. de C.V.; Operadora de Perfiles Sigosa, S.A. de
C.V.; Orge S.A. de C.V.; Perfiles Comerciales Sigosa, S.A. de C.V.; RRLC S.A.P.I. de
C.V.; Siderurgica del Occidente y Pacifico S.A. de C.V.; Siderurgicos Noroeste, S.A. de
C.V.; Simec International, S.A. de C.V.; Simec International 6 S.A. de C.V.; Simec
International 7, S.A. de C.V.; and Simec International 9 S.A. de C.V.
Sidertul S.A. de C.V.
TA 2000 S.A. de C.V.
OMAN: Certain Aluminum Foil, A-523-815 | 11/1/24-10/31/25
Oman Aluminium Rolling Company SPC
REPUBLIC OF KOREA: Circular Welded Non-Alloy Steel Pipe, A-580-809 | 11/1/24-10/31/25
AJU Besteel
Bookook Steel
Chang Won Bending
Dae Ryung Corporation
Daiduck Piping Co. Ltd.
Dong Yang Steel Pipe
EEW Korea Co., Ltd.
HiSteel Co., Ltd.
Husteel Co., Ltd.
Hyundai RB Co., Ltd.
Hyundai Steel Pipe Co., Ltd.
JJ Steel Co. Ltd.
KG Steel Co., Ltd.
Kukje Co., Ltd.
Kumkang Kind Co., Ltd.
Kumsoo Connecting Co., Ltd.
Miju Steel Manufacturing
NEXTEEL Co., Ltd.
SeAH FS, Co. Ltd.
SeAH Steel Corporation
SK Oceanplant Co., Ltd.
REPUBLIC OF KOREA: Thermal Paper, A-580-911 | 11/1/24-10/31/25
Akon Rulo Kagit Plastik Imalat IHR İTH. SAN. TİC. A.Ş.
Amtress (M) Sdn. Bhd.
Besto Sdn. Bhd.
Convertidoras PCM, S.A. de C.V.
Dor Etiket San VE Tic. Ltd.
Engin Kagir Mamulleri San. Tic.
Formas para Negocios, S.A. de C.V
Formularios de México S.A. de C.V.
Hansol Paper Company
Kagit Mamulleri San. Tic. Ltd., Stl.
Kooka Paper Manufacturing Sdn. Bhd
Papeles y Conversiones de Mexico, S.A. de C.V.
Sailing Paper (Malaysia) Sdn. Bhd.
ShenZhen Sailing Paper Co., Ltd.
Tele-Paper (M) Sdn. Bhd.
Wellden (M) Sdn. Bhd.
Wingle Industrial (Malaysia) Sdn. Bhd.
REPUBLIC OF TÜRKIYE: Certain Aluminum Foil, A-489-844 | 11/1/24-10/31/25
ASAS Alüminyum Sanayi ve Ticaret A.Ş.
Assan Aluminyum Sanayi ve Ticaret A.S., Ispak Esnek Ambalaj Sanayi A.S., and Kibar Dis Ticaret A.S.
Panda Alüminyum A.Ş.
SPAIN: Thermal Paper, A-469-824 | 11/1/24-10/31/25
Torraspapel S.A.
TAIWAN: Certain Circular Welded Non-Alloy Steel Pipe, A-583-814 | 11/1/24-10/31/25
Chung Hung Steel
Far East Machinery Co., Ltd.
Femco
Founder Land
Kounan Steel Co., Ltd.
Luen Jin Enterprise Co. Ltd.
Mayer Steel Pipe Corporation
Shin Yang Steel Co., Ltd
Shuan Hwa Industrial Co., Ltd.
Tension Steel Industries Co., Ltd.
Vulcan Industrial Corporation
Wan Chi Steel Industrial
THE PEOPLE'S REPUBLIC OF CHINA: Aluminum Lithographic Printing Plates, A-570-156 | 5/1/24-10/31/25
FUJIFILM Printing Plate (China) Co., Ltd.
THE PEOPLE'S REPUBLIC OF CHINA: Fresh Garlic, A-570-831 | 11/1/24-10/31/25
Linyi Dashan Food Co., Ltd.
Qingdao Gabsan Trading Co., Ltd.
Shandong Chuzhiai Food Co., Ltd.
Shandong Xinshuo Food Co., Ltd.
Xinyou International Trade Co.
Zhengzhou Harmoni Spice Co., Ltd
THE PEOPLE'S REPUBLIC OF CHINA: Lightweight Thermal Paper, A-570-920 | 11/1/24-10/31/25
Synergy Forms & Media Sdn. Bhd.
Wellden (M) Sdn. Bhd.
Zhangzhou Jiufu Environmental
Zhangzhou Zhuangzhuang Paper
THE PEOPLE'S REPUBLIC OF CHINA: Seamless Refined Copper Pipe and Tube, A-570-964 | 11/1/24-10/31/25
Daikin Air Conditioning (Shanghai)
Guangdong Carrier Heating, Ventilation & Air Conditioning Company Limited
Hailiang (Singapore) Pte. Ltd.
ICOOL USA International (Hongkong) Limited
Jintian Copper Industrial (Vietnam) Company Ltd.
Ningbo Kingkong Climate Technology Co., Ltd.
THE PEOPLE'S REPUBLIC OF CHINA: Diamond Sawblades and Parts Thereof, A-570-900 | 11/1/24-10/31/25
ASHINE Diamond Tools Co., Ltd.
Bosch Power Tools China Co Ltd.
Bosun Tools Co., Ltd.
Chengdu Huifeng New Material Technology Co., Ltd.
Danyang City Ou Di Ma Tools Co., Ltd.
Danyang Hantronic Import & Export Co., Ltd.
Danyang Huachang Diamond Tool Manufacturing Co., Ltd.
Danyang Like Tools Manufacturing Co., Ltd.
Danyang NYCL Tools Manufacturing Co., Ltd.
Danyang Realsharp Tools Co., Ltd.
Danyang Tongyu Tools Co., Ltd
Danyang Tsunda Diamond Tools Co., Ltd.
Danyang Weiwang Tools Manufacturing Co., Ltd.
Diamond Tools Technology (Thailand) Co., Ltd.
Fujian Quanzhou Aotu Precise Machine Co., Ltd.
Guangdong Sun Rising Tools Co., Ltd.
Guilin Tebon Superhard Material Co., Ltd.
Hailian Saw Technology Co., Ltd.
Hangzhou Deer King Industrial and Trading Co., Ltd.
Hangzhou Greatstar Industrial Co., Ltd.
Hangzhou Huike Import and Export
Hangzhou Kingburg Import & Export Co., Ltd
Hangzhou Xinweiye Tools Co., Ltd.
Hebei XMF Tools Group Co., Ltd.
Henan Huanghe Whirlwind International Co., Ltd
Hong Kong Hao Xin International Group Limited
Hubei Changjiang Precision Engineering Materials Technology Co., Ltd.
Hubei Sheng Bai Rui Diamond Tools Co., Ltd.
Husqvarna (Hebei) Co., Ltd.
Huzhou Gu's Import & Export Co., Ltd.
Jiangsu Fengtai Diamond Tool Manufacture Co., Ltd.
Jiangsu Fengtai Diamond Tools Co., Ltd.
Jiangsu Huachang Diamond Tools Manufacturing Co., Ltd.
Jiangsu Inter-China Group Corporation
Jiangsu Jinfeida Power Tools
Jiangsu Yaofeng Tools Co., Ltd
Jiangsu Youhe Tool Manufacturer Co., Ltd
MaxxTools (Suzhou) Corp., Ltd.
Orient Gain International Limited
Pantos Logistics (HK) Company Limited
Protec Tools Co., Ltd.
Pujiang Talent Diamond Tools Co., Ltd.
Qingdao Hyosung Diamond Tools Co., Ltd
Qingdao Shinhan Diamond Industrial Co., Ltd
Qingyuan Shangtai Diamond Tools Co., Ltd.
Quanzhou Sunny Superhard Tools Co., Ltd.
Quanzhou Zhongzhi Diamond Tool Co., Ltd
Rizhao Hein Saw Co., Ltd.
Saint-Gobain Abrasives (Shanghai) Co., Ltd.
Shanghai Jingquan Industrial Trade Co., Ltd.
Shanghai Lansi Trading Co., Ltd.
Shanghai Starcraft Tools Co. Ltd.
Shanghai Vinon Tools Industrial Co.
Sino Tools Co., Ltd.
Suzhou Blade Tech Tool Co Ltd.
Tangshan Metallurgical Saw Blade Co., Ltd
Weihai Xiangguang Mechanical Industrial Co., Ltd.
Wuhan Baiyi Diamond Tools Co., Ltd
Wuhan Sadia Trading Co., Ltd.
Wuhan Wanbang Laser Diamond Tools Co., Ltd.
Wuhan ZhaoHua Technology Co., Ltd.
Xiamen ZL Diamond Technology Co., Ltd.
Zhejiang Shall Tools Co., Ltd.
Zhejiang Wanli Tools Group Co., Ltd.
Zhenjiang Luckyway Tools Co., Ltd.
ZL Diamond Technology Co., Ltd.
ZL Diamond Tools Co., Ltd.
ZZW Precision Tool Supply
CVD Proceedings Period
OMAN: Certain Aluminum Foil, C-523-816 | 1/1/24-12/31/24
Om an Aluminium Rolling Company SPC
REPUBLIC OF KOREA: Oil Country Tubular Goods, C-580-913 | 1/1/24-12/31/24
Hyundai Steel Pipe Co., Ltd.
Kumkang Kind Co., Ltd.
NEXTEEL Co., Ltd.
SeAH Steel Corporation; SeAH Steel Holding Corporation ⁴
REPUBLIC OF TÜRKIYE: Certain Aluminum Foil, C-489-845 | 1/1/24-12/31/24
ASAS Aluminyum Sanayi ve Ticaret A.S.
Assan Aluminyum Sanayi ve Ticaret A.S.; Ispak Esnek Ambalaj Sanayi A.S.; Kibar Dis
Ticaret A.S.
Panda Aluminyum A.S.
REPUBLIC OF TÜRKIYE: Steel Concrete Reinforcing Bar, C-489-819 | 1/1/24-12/31/24
Çolakoglu Dis Ticaret A.S.; Çolakoglu Metalurji A.S.
Icdas Celik Enerji Tersane ve Ulasim Sanayi A.S.
Kaptan Demir Celik Endustrisi ve Ticaret A.S.; Kaptan Metal Dis Ticaret ve Nakliyat A.S.
THE PEOPLE'S REPUBLIC OF CHINA: Aluminum Lithographic Printing Plates, C-570-157 | 3/1/24-12/31/24
FUJIFILM Printing Plate (China) Co., Ltd
THE PEOPLE'S REPUBLIC OF CHINA: Chlorinated Isocyanurates, C-570-991 | 1/1/24-12/31/24
Anhui Hongze New Material Technology
Anhui Topglobal Co., Ltd.
Canaxy Asia Limited
Centurion Chemicals Co Ltd
Chemball (Hangzhou) Chemicals Co
Hebei Ferturea Trade Co., Ltd.
Hebei Fuhui Water Treatment Co., Ltd.
Hebei Haida Chemical Industry Co., Ltd.
Hebei Higwi Trade Co Ltd
Henan Chlorquim Chemical Co., Ltd
Henan Saifu Trading Co., Ltd
Henan Secco Environmental
Heze Huayi Chemical Co., Ltd
Hydrotech Investment Corporation
Jinchang International Forwarding C
Juancheng Kangtai Chemical Co., Ltd.
Orient Express Container (Shanghai)
Qingdao Hot Chemicals Co., Ltd
Qingdao Huaxijin Industry and Trade
Qingdao On-Billion
Qingdao Sinosalt Chemical Co., Ltd.
Qingzhou Luxing Industrial Trade Co
Shandong Lichen Chemical Co., Ltd
Shandong Orange Joy Co., Ltd.
Shandong QC Industry Co., Ltd.
Shandong Wolan Biologic Group Co
Sincere Cooperation Material
Tianjin Jinbin International Trade
Tianjin Smile Technology Dev Co Ltd
VanderArk International Limited
Weifang JS Trading Co., Ltd
Weifang Longshuo Chemical Co., Ltd
Yangzhou Weideli Trade Co., Ltd.
Zhanjiang Hailongli Energy Technology
THE PEOPLE'S REPUBLIC OF CHINA: Lightweight Thermal Paper, C-570-921 | 1/1/24-12/31/24
Synergy Forms & Media Sdn. Bhd.
Wellden (M) Sdn. Bhd
Zhangzhou Jiufu Environmental
Zhangzhou Zhuangzhuang Paper

Suspension Agreements

⁴ Commerce previously found SeAH Steel Holding Corporation to be a cross-owned affiliate of SeAH Steel Corporation. See Oil Country Tubular Goods from the Republic of Korea and the Russian Federation: Countervailing Duty Orders, 87 FR 70782 (November 21, 2022). Accordingly, we are initiating this review with respect to SeAH Steel Corporation and its cross-owned entity, SeAH Steel Holding Corporation, listed in this notice.

None.

Duty Absorption Reviews

During any administrative review covering all or part of a period falling between the first and second or third and fourth anniversary of the publication of an AD order under 19 CFR 351.211 or a determination under 19 CFR 351.218(f)(4) to continue an order or suspended investigation (after sunset review), Commerce, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant “gap” period of the order (i.e., the period following the expiry of provisional measures and before definitive measures were put into place), if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the Final Rule,⁵ available at https://www.govinfo.gov/content/pkg/FR-2013-07-17/pdf/2013-17045.pdf, prior to submitting factual information in this segment. Note that Commerce has amended certain of its requirements pertaining to the service of documents in 19 CFR 351.303(f).⁶

⁵ See Certification of Factual Information To Import Administration During Antidumping and Countervailing Duty Proceedings, 78 FR 42678 (July 17, 2013) (Final Rule); see also the frequently asked questions regarding the Final Rule, available at https://enforcement.trade.gov/tlei/notices/factual_info_final_rule_FAQ_07172013.pdf.

⁶ See Administrative Protective Order, Service, and Other Procedures in Antidumping and Countervailing Duty Proceedings; Final Rule, 88 FR 67069 (September 29, 2023).

Any party submitting factual information in an AD or CVD proceeding must certify to the accuracy and completeness of that information using the formats provided at the end of the Final Rule.⁷ Commerce intends to reject factual submissions in any proceeding segments if the submitting party does not comply with applicable certification requirements.

⁷ See section 782(b) of the Act; see also Final Rule; and the frequently asked questions regarding the Final Rule, available at https://enforcement.trade.gov/tlei/notices/factual_info_final_rule_FAQ_07172013.pdf.

Extension of Time Limits Regulation

Parties may request an extension of time limits before a time limit established under Part 351 expires, or as otherwise specified by Commerce.⁸ In general, an extension request will be considered untimely if it is filed after the time limit established under Part 351 expires. For submissions which are due from multiple parties simultaneously, an extension request will be considered untimely if it is filed after 10:00 a.m. on the due date. Examples include, but are not limited to: (1) case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning CBP data; and (5) Q&V questionnaires. Under certain circumstances, Commerce may elect to specify a different time limit by which extension requests will be considered untimely for submissions which are due from multiple parties simultaneously. In such a case, Commerce will inform parties in the letter or memorandum setting forth the deadline (including a specified time) by which extension requests must be filed to be considered timely. This policy also requires that an extension request must be made in a separate, standalone submission, and clarifies the circumstances under which Commerce will grant untimely-filed requests for the extension of time limits. Please review the Final Rule, available at https://www.gpo.gov/fdsys/pkg/FR-2013-09-20/html/2013-22853.htm, prior to submitting factual information in these segments.

⁸ See 19 CFR 351.302.

Notification to Interested Parties

These initiations and this notice are in accordance with section 751(a) of the Act (19 U.S.C. 1675(a)) and 19 CFR 351.221(c)(1)(i).

Dated: January 22, 2026.
Scot Fullerton,
Acting Deputy Assistant Secretary for Antidumping and Countervailing Duty Operations.

[FR Doc. 2026-01602 Filed 1-26-26; 8:45 am]

BILLING CODE 3510-DS-P